DEPARTMENT OF COMMERCE

National Oceanic and Atmospheric Administration

50 CFR Part 648

[Docket No. 241203-0308]

RTID 0648-XE226

Fisheries of the Northeastern United States; 2025 Specifications for the Summer Flounder, Scup, Black Sea Bass, and Bluefish Fisheries

AGENCY: National Marine Fisheries Service (NMFS), National Oceanic and Atmospheric Administration (NOAA), Commerce.

ACTION: Final rule.

SUMMARY: NMFS announces 2025 specifications for the summer flounder, scup, black sea bass, and bluefish fisheries. The implementing regulations for the Summer Flounder, Scup, and Black Sea Bass Fishery Management Plan (FMP) and the Bluefish Fishery Management Plan require us to publish specifications for the upcoming fishing year for each of these species. The specifications for these species are intended to establish allowable harvest levels that will prevent overfishing, consistent with the most recent scientific information, for the 2025 fishing year.

DATES: This rule is effective January 1, 2025.

ADDRESSES: A Supplemental Information Report (SIR) was prepared for the 2025 black sea bass specifications. An Environmental Assessment (EA) was prepared for the 2024 and projected 2025 summer flounder and scup specifications and 2024 and projected 2025 bluefish specifications. Copies of the SIR and EAs are available on request from Dr. Christopher M. Moore, Executive Director, Mid-Atlantic Fishery Management Council, Suite 201, 800 North State Street, Dover, DE 19901. The EAs are also accessible via the internet at https://www.mafmc.org/supporting-documents.

FOR FURTHER INFORMATION CONTACT: Laura Deighan, Fishery Policy Analyst, (978) 281-9184, Laura.Deighan@noaa.gov.

SUPPLEMENTARY INFORMATION:

General Background

The Mid-Atlantic Fishery Management Council (Council) and the Atlantic States Marine Fisheries Commission (Commission) cooperatively develop management measures for the summer flounder, scup, black sea bass, and bluefish fisheries. The Council, pursuant to the Magnuson-Stevens Fishery Conservation and Management Act (Magnuson-Stevens Act) develops recommendations regarding fisheries in Federal waters seaward of New York, New Jersey, Delaware, Pennsylvania, Maryland, Virginia, and North Carolina. The Commission, pursuant to the Atlantic Coastal Fisheries Cooperative Management Act, addresses fisheries in state waters from Florida to Maine. These bodies work together in the development of complementary FMPs for species like summer flounder, scup, black sea bass, and bluefish that are harvested in both Federal and state waters, and each year, these bodies work together to develop specifications for these fisheries. The Council provides its recommendations to NMFS, and NMFS engages in a Federal rulemaking process by which the agency adopts specifications that become binding on the Federal fisheries. Specifications in these fisheries include various catch and landing subdivisions, such as the commercial and recreational sector annual catch limits (ACL), annual catch targets (ACT), and sector-specific landing limits (i.e., the commercial fishery quota and recreational harvest limit (RHL)) established for 1 to 3 years at a time. Adjustments to commercial management measures are also considered in the specifications process. The process for measures used to manage the recreational fisheries (i.e., minimum fish sizes, seasonal closures, and possession restrictions) for these four species occurs separately and is not discussed further in this final rule. This action implements 2025 acceptable biological catches (ABC), as well as the recreational and commercial ACLs, ACTs, commercial quotas, and RHLs for all four species.

Final 2025 Specifications

Summer Flounder Specifications

This action adopts the Council and the Commission's Summer Flounder Board-recommended 2025 summer flounder catch and landings limits shown in table 1.

Table 1—Summary of 2025 Summer Flounder Fishery Specifications
Specifications | Million pounds (lb) | Metric ton (mt)
Overfishing Limit (OFL) | 24.97 | 11,325
ABC | 19.32 | 8,761
Commercial ACL = ACT | 10.62 | 4,819
Commercial Quota | 8.79 | 3,987
Recreational ACL = ACT | 8.69 | 3,942
Recreational Harvest Limit | 6.35 | 2,879

The final 2025 state-by-state summer flounder quotas are provided in table 2. As required in Amendment 21 (85 FR 80661), if the commercial quota in any year is higher than 9.55 million lb (4,332 mt), the first 9.55 million lb (4,322 mt) is distributed according to the baseline formula found in the regulations at 50 CFR 648.102(c)(1)(i) (the baseline allocations were established through Amendment 2 (57 FR 57358) and modified by Amendment 4 (58 FR 49937)). Any additional quota is distributed in equal shares to all states except Maine, Delaware, and New Hampshire, which split 1 percent of the additional quota. Because this year's quota is below 9.55 million lb (4,322 mt), the state-by-state allocations are based on the baseline allocations. This final rule includes adjustments for previously unaccounted for 2023 and preliminary 2024 overages to determine the final state quotas.

Table 2—Final 2025 Summer Flounder State-by-State Quotas
State | Percent share up to 9.55 million lb | Final 2025 quotas ¹ (lb) | Final 2025 quotas ¹ (mt)
ME | 0.04756 | 4,180 | 1.9
NH | 0.00046 | 40 | 0.02
MA | 6.82046 | 571,147 | 259.07
RI | 15.68298 | 1,378,507 | 625.28
CT ² | 2.25708 | 198,393 | 89.99
NY | 7.64699 | 672,157 | 304.89
NJ | 16.72499 | 1,470,098 | 666.83
DE | 0.01779 | 1,564 | 0.71
MD | 2.0391 | 179,233 | 81.3
VA | 21.31676 | 1,873,707 | 849.9
NC | 27.44584 | 2,412,443 | 1,094.27
Total | 100 | 8,761,471 | 3,974.14
¹ Totals may differ slightly from the sums of the quotas due to rounding.
² This table corrects a typographical error from the proposed rule that misstated Connecticut's final quota as 198,394 lb (89.9mt).

This action makes no changes to the current commercial management measures, including the minimum fish size (14-inch (36-centimeter (cm)) total length), gear requirements, and possession limits.

Black Sea Bass Specifications

At the August 2024 meeting, the Council and the Commission's Black Sea Bass Board were unable to agree on the 2025 black sea bass specifications. The Black Sea Bass Board adopted a coastwide quota for black sea bass that is the same as the 2024 quota, while the Council adopted a quota that represents a 20-percent reduction from 2024. If implemented, the differing quotas would likely have significant negative socioeconomic impacts on Federal black sea bass permit holders. In the case where the two bodies propose different specifications, the regulations at 50 CFR 648.143(e) require the Regional Administrator to take administrative action to align measures to prevent differential effects on Federal permit holders.

According to the 2024 Black Sea Bass Management Track Assessment, the biomass of the black sea bass stock is more than double the target level with an increasing trend, recent recruitment is high, and recent fishing mortality has been well below the threshold level. Given the current status of the black sea bass stock and the potentially significant social and economic harm to Federal permit holders that would result from divergent state and Federal quotas, we are implementing 2025 black sea bass catch limits consistent with those adopted by the Commission.

The final 2025 black sea bass catch and landings limits are shown in table 3.

Table 3—2025 Black Sea Bass Catch and Landings Limits
Specifications | Million lb | mt
ABC | 16.66 | 7,557
Expected Commercial Discards | 1.50 | 680
Expected Recreational Discards | 2.89 | 1,311
Commercial ACL = ACT | 7.50 | 3,401
Commercial Quota | 6.00 | 2,721
Recreational ACL = ACT | 9.16 | 4,156
RHL | 6.27 | 2,845

No changes are being made to the 2025 commercial management measures for black sea bass, including the commercial minimum fish size (11-inch (27.94-cm) total length) and gear requirements. Any changes to recreational management measures for black sea bass would be considered through a separate action following the joint meeting of the Council and Commission in December 2024.

On October 1, 2024 (89 FR 79778), we implemented the approved measure of Amendment 23 to the Summer Flounder, Scup, and Black Sea Bass FMP. The approved measure changes the Federal coastwide commercial in-season accountability measure such that the black sea bass commercial fishery will now close when the quota plus an additional buffer of up to 5 percent is projected to be landed. The intent of this buffer is to minimize negative economic impacts when the coastwide quota is reached before all states have fully harvested their allocations due to overages in individual states.

Pursuant to the Amendment 23 measure, the Council and Black Sea Bass Board may recommend a buffer from 0 to 5 percent each year through the specification process. This action adopts the Council and Black Sea Bass Board-recommended 5-percent commercial in-season closure buffer. Given recent patterns in the fishery, an in-season closure is not expected for 2025; however, in the unlikely event it is needed, a 5-percent buffer could have socioeconomic benefits with little risk to stock status.

Scup Specifications

This action adopts the Council and Scup Board-recommended 2025 scup catch and landings limits shown in table 4.

Table 4—2025 Scup Catch and Landing Limits
Specifications | Million lb | mt
OFL | 42.19 | 19,135
ABC | 41.31 | 18,740
Expected Commercial Discards | 7.38 | 3,318
Expected Recreational Discards | 2.08 | 944
Commercial ACL = ACT | 26.85 | 12,181
Commercial Quota | 19.54 | 8,863
Recreational ACL = ACT | 14.46 | 6,559
RHL | 12.31 | 5,585

The commercial scup quota is divided into three commercial fishery quota periods, as outlined in table 5.

Table 5—Commercial Scup Quota Allocations for 2025 by Quota Period
Quota period | Percent share | lb | mt
Winter I | 45.11 | 8,814,300 | 3,998
Summer | 38.95 | 7,610,663 | 3,452
Winter II | 15.94 | 3,114,608 | 1,413
Total | 100.00 | 19,539,570 | 8,863

The current quota period possession limits are not changed by this action and are outlined in table 6.

Table 6—Commercial Scup Possession Limits by Quota Period
Quota period | Federal possession limits (per trip): lb | Federal possession limits (per trip): kg
Winter I | 50,000 | 22,680
Summer | N/A | N/A
Winter II | 12,000 | 5,443

The Winter I scup commercial possession limit will drop to 1,000 lb (454 kg) when 80 percent of that period's allocation is landed. If the Winter I quota is not fully harvested, the remaining quota is transferred to the Winter II period. The Winter II possession limit may be adjusted in association with a transfer of unused Winter I quota to the Winter II period via announcement in the Federal Register. The regulations specify that the Winter II possession limit increases to different levels consistent with the increase in the quota, as described in table 7.

Table 7—Potential Increase in Winter II Possession Limits Based on the Amount of Unused Scup Rolled Over From Winter I to Winter II
Initial Winter II possession limit: lb | Initial Winter II possession limit: kg | Rollover from Winter I to Winter II: lb | Rollover from Winter I to Winter II: kg | Increase in initial Winter II possession limit: lb | Increase in initial Winter II possession limit: kg | Final Winter II possession limit after rollover from Winter I to Winter II: lb | Final Winter II possession limit after rollover from Winter I to Winter II: kg
12,000 | 5,443 | 0-499,999 | 0-226,796 | 0 | 0 | 12,000 | 5,443
12,000 | 5,443 | 500,000-999,999 | 226,796-453,592 | 1,500 | 680 | 13,500 | 6,123
12,000 | 5,443 | 1,000,000-1,499,999 | 453,592-680,388 | 3,000 | 1,361 | 15,000 | 6,804
12,000 | 5,443 | 1,500,000-1,999,999 | 680,389-907,184 | 4,500 | 2,041 | 16,500 | 7,484
12,000 | 5,443 | 2,000,000-* 2,500,000 | 907,185-1,133,981 | 6,000 | 2,722 | 18,000 | 8,165
* This process of increasing the possession limit in 1,500 lb (680 kg) increments would continue past 2,500,000 lb (1,122,981 kg), but ends here for the purpose of this example.

This action makes no changes to the 2025 commercial management measures for scup, including the minimum fish size (9-inch (22.9-cm) total length), gear requirements, and quota period possession limits.

Bluefish Specifications

This action approves the Council- and the Commission's Bluefish Board-recommended 2025 bluefish catch and landings limits as shown in table 8.

Table 8—Summary of 2025 Bluefish Fishery Specifications
Specifications | Million lb | mt
OFL | 27.49 | 12,467
ABC | 21.83 | 9,903
Commercial ACL = ACT | 3.06 | 1,386
Commercial Quota | 3.03 | 1,375
Recreational ACL = ACT | 18.78 | 8,517
Recreational Harvest Limit | 15.70 | 7,121

The coastwide commercial quota is allocated to coastal states from Maine to Florida based on percent shares specified in the Bluefish FMP and regulations at § 648.162(d). Table 9 provides the final commercial state allocations based on the Council-recommended coastwide commercial quota for 2025 and the phased-in changes to the percent share allocations to the states specified in Amendment 7. No states exceeded their allocated quota in 2023 or are projected to do so in 2024; therefore, no accountability measures for the commercial fishery are required for the 2025 fishing year based on the data available at this time.

Table 9—2025 Final Bluefish State Commercial Quota Allocations
State | Percent share | Quota (lb) | Quota (kg)
Maine | 0.35 | 10,582 | 4,800
New Hampshire | 0.30 | 9,123 | 4,138
Massachusetts | 8.66 | 262,663 | 119,142
Rhode Island | 8.41 | 255,061 | 115,694
Connecticut | 1.16 | 35,309 | 16,016
New York | 15.74 | 477,518 | 216,598
New Jersey | 14.26 | 432,630 | 196,238
Delaware | 1.09 | 32,990 | 14,964
Maryland | 2.38 | 72,265 | 32,779
Virginia | 8.44 | 256,125 | 116,176
North Carolina | 32.04 | 972,012 | 440,897
South Carolina | 0.07 | 2,250 | 1,021
Georgia | 0.06 | 1,897 | 860
Florida | 7.04 | 213,625 | 96,899
Total | 100 | 3,033,561 | 1,376,000

This action does not make any changes to the 2025 commercial or recreational management measures for bluefish.

Comments and Responses

The public comment period for the proposed rule ended on October 31, 2024. We received 11 comments on the proposed rule. No changes to the final rule are necessary as a result of these comments. One of the comments focused on wind energy development and whales and is not germane to this action. Six comments from five industry organizations and one individual supported the proposed specifications. Four comments from two industry organizations and five conservation organizations opposed the proposed 2025 black sea bass catch limits. In general, recurring themes in these four comments included the risk of overfishing on black sea bass, the use of the best scientific information available in setting the black sea bass specifications, and requests for clarifications on the SIR.

Overfishing

Comment 1: Two commenters who opposed the 2025 black sea bass catch limits stated that NMFS was allowing for a situation in which overfishing on the black sea bass stock would occur. These commenters noted that the projected fishing mortality rate (F) that would result from the status quo black sea bass catch limits (1.87), as described in the SIR, is greater than the F rate threshold of 1.071 (note that one of these comments incorrectly cited the F rate threshold as 0.82; however, that number is the terminal year (2023) F estimate).

Response: The Magnuson-Stevens Act defines the terms “overfishing” and “overfished” as a fishing mortality rate that jeopardizes the capacity of a fishery to produce the maximum sustainable yield (MSY) on a continuing basis. The black sea bass stock biomass is currently more than 200 percent of its biomass target, the biomass associated with maximum sustainable yield. In plain language, the stock is more than double the ideal biomass that would maximize long-term benefits. FMSY is the fishing mortality rate that, if applied over the long term, would result in the maximum sustainable yield. For stocks above their biomass target, fishing at FMSY should gradually reduce biomass (B) to the biomass target (BMSY). For the black sea bass fishery, fishing above FMSY for 1 year may increase the rate at which the stock approaches BMSY. However, with the stock well above BMSY, this would not jeopardize the long-term sustainability of the stock. Based on projections using status quo catch provided by the NOAA Northeast Fisheries Science Center (Center; see table 5 in the SIR), spawning stock biomass is expected to decline to 148 percent of its target in 2025 under status quo catch limits, well above BMSY.

In addition, previous black sea bass stock assessments have revealed a retrospective pattern indicating that preceding assessments routinely underestimated stock size and overestimated fishing mortality. These assessments have consistently indicated that the stock size is higher and the fishing mortality rate is lower than predicted in the previous assessment. This pattern reflects catch limits that are set lower than what is actually available to the fishery. In turn, this can result in higher than anticipated harvest and exceedance of the OFL compared to the previous assessment's projections—while the updated assessment subsequently indicates that overfishing did not occur based on the updated understanding of what the allowable catch and OFL should have been. The 2024 Management Track Assessment represents a change in stock assessment models; previously, black sea bass were assessed using the Age-Structured Assessment Program but transitioned to the Woods Hole Assessment Model for the first time this year. At this time, it is unclear if this retrospective pattern remains with the new model.

In this specific context, fishing at a rate that is slightly higher than FMSY is not expected to result in overfishing—that is, to jeopardize the capacity of the black sea bass fishery to produce the maximum sustainable yield on a continuing basis—based on the disconnect in the stock assessments' projections of a decline in biomass and the current high biomass. The 2023 total catch of 16.94 million lb (7,684 mt) resulted in a realized fishing mortality rate of only 85 percent of FMSY; therefore, maintaining the slightly lower status quo quotas for 2025 with an ABC of 16.66 million lb (7,557 mt) does not risk long-term biological harm to the black sea bass stock. The 2025 black sea bass catch limits are expected to reduce the stock biomass to a level that is closer to, but still above, BMSY than the Council's recommended catch limits would. However, this does not constitute overfishing as defined by the Magnuson-Stevens Act. A new stock assessment will be available in 2025 and will be used to set future specifications.

Comment 2: Four commenters who opposed the 2025 black sea bass catch limits due to overfishing concerns asserted that the Magnuson-Stevens Act National Standard 1 Guidelines define the ACL as a limit on catch that cannot exceed the ABC (50 CFR 600.310(f)(1)(iii) and (f)(4)) and identify the SSC as the body charged with determining the ABC (§ 600.310(f)(3) and (b)(2)(V)(B)).

Response: The commenter is correct that the SSC is tasked with recommending an ABC to the Council, per the regulations cited. Similarly, the Council must recommend to NMFS black sea bass catch specifications (§ 648.142(b)) that do not exceed the SSC's recommendation (§ 600.315(c)(6)). However, this requirement is specific to the Council's process and does not extend to NMFS. The regulations at § 648.142(b) require the Regional Administrator to review the Council's recommendations and any recommendations of the Commission and, after that review, to publish a proposed rule in the Federal Register to implement a commercial quota, a recreational harvest limit, and additional management measures for the commercial fishery. NMFS, on behalf of the Secretary of Commerce, is obligated to independently consider the recommendation of the Council along with other information and requirements including, but not limited to, other applicable laws, the National Standards, and the governing regulations within the FMP (see also Comment 6). National Standard 1 requires NMFS to prevent overfishing while achieving optimum yield on a continuing basis. As described above (see Comment 1), NMFS has determined that the 2025 black sea bass catch limits set forth in this final rule will not result in overfishing as defined in the Magnuson-Stevens Act.

In addition, for black sea bass, this action includes an ABC of 16.66 million lb (7,557 mt), a commercial ACL of 7.50 million lb (3,402 mt), and a recreational ACL of 9.16 million lb (4,155 mt). This is consistent with the National Standard 1 Guidelines' ACL definition, as the combined commercial and recreational ACLs do not exceed the ABC.

Comment 3: One commenter noted that the Center's status quo projections, as described in the SIR, indicate that if the 2024 black sea bass catch limits are maintained in 2025, the result will be the potential reduction of B/BMSY from close to 2 to 1.03 in 2 years.

Response: The projections estimate a ratio of spawning stock biomass (SSB) to the spawning stock biomass at MSY (SSBMSY) of 1.03 in 2026 if the status quo catch limits were implemented in fishing years 2025 and 2026. This action only sets the black sea bass catch limits for the 2025 fishing year. The projections estimate SSB will remain well above the target under status quo catch limits in 2025, with an estimated SSB/SSBMSY ratio of 1.48 in 2025. A new stock assessment will be available in 2025 and will be used to set the 2026 specifications.

Use of Best Scientific Information Available

Comment 4: Five commenters who opposed the 2025 black sea bass catch limits noted that the Council's recommended specifications, and the 20-percent reduction included therein, were based on the most recent management track assessment, which constituted the best scientific information available as required under National Standard 2. The commenters noted that the most recent assessment showed declining biomass and asserted that the 2025 black sea bass catch limits are not based on the best available science.

Response: This action relies upon the best available science in the development of the 2025 black sea bass specifications. According to the 2024 Management Track Assessment, the black sea bass stock is not overfished and overfishing was not occurring in 2023. Spawning stock biomass was estimated at 2.19 times the target level and fishing mortality was estimated to be 23 percent below FMSY in 2023. However, the assessment's projections suggested that the 2025 OFL be set 20 percent below the 2024 (status quo) OFL. Members of the Advisory Panel, Monitoring and Technical Committees, Council, and Commission raised concerned that the stock assessment projections were underestimating future biomass, resulting in a 2025 black sea bass ABC that is too low (see https://www.mafmc.org/s/SFSBSB-MC-1Aug2024-summary.pdf for additional information about concerns raised).

The Center re-ran black sea bass projections based on status quo catch in 2025 and 2026, using the same methodology and underlying information that is described in the 2024 management track assessment. This methodology, and the resulting projections, is the best scientific information available. These projections are the basis for the 2025 black sea bass catch limits and indicate that maintaining status quo catch in fishing year 2025 will maintain SSB above SSBMSY and will not result in overfishing as defined in the Magnuson-Stevens Act (see Comment 1). Additionally, the single-point biomass estimate in the terminal year of the assessment does not reflect a declining biomass trend. To the contrary, the overall trend is a black sea bass stock that has been well above its biomass target for the last 10 years and a history of assessments that have routinely underestimated the stock size and overestimated fishing mortality (see Comment 1).

Comment 5: One commenter opposed to the 2025 black sea bass catch limits stated that the SSC's recommended ABC and OFL took into account more components of stock health, including recruitment and size structure.

Response: As previously described (see Comments 1 and 4), the decision to implement the 2025 black sea bass catch limits is based on the Center's projections using status quo catch and the same methodology described in the most recent management track assessment. Members of the Advisory Panel, Monitoring and Technical Committees, Council, and Commission raised significant concerns about the original projected 2025 OFL and ABC based on recent trends in biomass, recruitment, and fishing mortality. The 2025 black sea bass catch limits are intended to prevent overfishing while taking into account recent trends in stock health (see Comment 1) and the socio-economic impacts that would occur if the Federal catch limits differed from those set by the Commission (see also Comment 15).

Legal Authority

Comment 6: Five commenters raised issue with NMFS setting black sea bass catch limits greater than those recommended by the SSC. Four commenters contended that NMFS' stance that the requirement for science-based catch limits that do not exceed the SSC's catch advice in section 302(h)(6) of the Magnuson-Steven Act “applies only to the Councils, and NMFS can set an ABC higher than the SSC recommendation in some circumstances” “runs counter to the language, case law, and history of the Magnuson-Stevens Act and the agency's own regulations.” The other commenter requested a detailed explanation of the rationale and legal authority for overruling the SSC's advice. It argued that the Agency appears to be placing more weight on alleviating discrepancies between state and Federal waters such that no “differential effects occur to Federal permit holders” (§ 648.143(e)) than on the Magnuson-Stevens Act requirement that the ABC must not exceed the recommendation of the SSC and that the Center appears to be substituting its own judgment for that of the SSC.

Response: Section 302(h) of the Magnuson-Steven Act specifies “Each Council shall, . . .” Therefore, the requirements listed in section 302(h) apply to the Councils. Furthermore, the Magnuson-Stevens Act regulations at § 600.10, list the SSC as an advisory group. The regulations at § 600.133(b) require the SSC to “. . . provide its Council ongoing scientific advice for fishery management decisions, including recommendations for acceptable biological catch, preventing overfishing, maximum sustainable yield, and achieving rebuilding targets, and reports on stock status and health, bycatch, habitat status, social and economic impacts of management measures, and sustainability of fishing practices” (emphasis added). The Council is bound to the SSC's recommendations and would be in violation of the Magnuson-Stevens Act if it recommended catch limits to NMFS that were greater than the ABC recommended by the SSC (§ 600.315(c)). NMFS, however, on behalf of the Secretary of Commerce, is obligated to independently consider the recommendations of the Councils along with other information and guidance, including, but not limited to, other applicable laws, the National Standards, and the governing regulations within the FMP. This allows the Agency to balance the needs of a fishery, including potentially significant social and economic disruptions, in an effort to achieve optimal yield, provided doing so does not pose an unacceptable risk to the health of the resource. This action is being taken pursuant to section 305(d) of the Magnuson-Stevens Act, which requires NMFS to carry out FMPs and amendments in accordance with the provisions of the Magnuson-Stevens Act, and the black sea bass regulations at 50 CFR part 648 subpart I as developed pursuant to sections 304(a) and (b) of the Magnuson-Stevens Act.

Here, the black sea bass stock is well above its biomass target, and the 2025 catch limits are not expected to result in overfishing (see Comment 1). The black sea bass regulations at § 648.143(e) require NMFS to take administrative action to “. . . achieve alignment through consistent state and Federal measures such that no differential effects occur to Federal permit holders.” In setting the 2025 black sea bass catch limits, NMFS considered both the requirement to prevent overfishing and the negative effects that would result from lower Federal catch limits than those set by the Commission (see Comment 15). Therefore, NMFS is not circumventing advice from the SSC or the Council but is following its obligation to independently consider the National Standards and the governing regulations within the FMP to make the best decision for the fishery, in line with available biological and socioeconomic information.

Comment 7: Five commenters asserted that, per the Magnuson-Stevens Act, the appropriate process to implement catch limits that differ from the Council and SSC's recommendation would be for NMFS to partially disapprove the Council specifications and to send it back to the Council for additional consideration, with an opportunity for the SSC to weigh in on the Center's analysis that was used to justify setting catch limits exceeding the SSC's recommendation.

Response: While section 304(a)(3) of the Magnuson-Stevens Act requires NMFS to (1) notify a Council regarding the approval, disapproval, or partial approval of an FMP or amendment; (2) provide the basis for any such disapproval; and (3) offer recommendations to conform the plan or amendment to the requirements of applicable law, this process is specific to development of FMPs and FMP amendments undertaken pursuant to section 304(a). This action to set the 2025 summer flounder, scup, black sea bass, and bluefish specifications is being taken pursuant to section 305(d), which requires NMFS to carry out FMPs and amendments in accordance with the provisions of the Magnuson-Stevens Act and the black sea bass regulations. Specifically, the regulations at § 648.142(b) require the Council to make recommendations to the Regional Administrator on measures projected to constrain the sectors to the applicable limit or target as prescribed in the FMP and require NMFS to publish a proposed rule in the Federal Register to implement catch limits after review of the Council's recommendations and any recommendations of the Commission. As previously described (see Comment 6), NMFS is not bound to the recommendation of the Council and SSC when implementing these catch limits, but must ensure compliance with other applicable laws, the National Standards, and the governing regulations within the FMP.

In addition, the action taken by the Commission is final and will be implemented on January 1, 2025. Any delay in implementing complementary Federal catch limits could put Federal permit holders at a disadvantage for a portion of fishing year 2025. NMFS implemented the current black sea bass specifications for fishing year 2024, which ends December 31, 2024. The black sea bass regulations do not include a rollover provision that would allow the previously implemented Federal coastwide catch limits to carry over if new Federal catch limits have not been implemented at the start of the new fishing year.

Comment 8: Four commenters argue that: (1) The regulation requiring NMFS to prevent differential effects to state and Federal permit holders is codified as a “state/Federal disconnect accountability measure” and is found within the accountability measures regulations for black sea bass; (2) that NMFS defines accountability measures as controls to prevent ACL overages; and (3) that the proposal to liberalize the black sea bass ABC cannot be described as an accountability measure. A fifth commenter expressed concern that NMFS chose to set an ABC that exceeded the SSC's advice based on an accountability measure provision in the black sea bass regulations.

Response: The National Standard 1 guidelines define accountability measures as “measures to ensure accountability” (§ 600.310(b)(1)(iii)) and require Councils to take an approach that considers “. . . uncertainty in scientific information and management control of the fishery” (§ 600.310(b)(3)). While most accountability measures are direct management controls (e.g., closures or paybacks) designed to prevent exceedance of ACLs and to correct or mitigate overages, they also should “. . . correct the problems that caused the overage in as short a time as possible” (§ 600.310(g)(1)).

The “state/Federal disconnect” accountability measure at § 648.143(e), which requires the Regional Administrator to take administrative action to align measures to prevent differential effects on Federal permit holders, is responsive to this latter requirement and reflects the Magnuson-Stevens Act's National Standard 6 that fishery management plans take into account variations among and contingencies in fisheries. The Council and the Commission cooperatively manage the black sea bass fishery, and both bodies are required to prevent overfishing. While the Commission is not bound by the Magnuson-Stevens Act, the Atlantic Coastal Fisheries Cooperative Management Act requires the Commission to manage fisheries throughout their range based on the best available science, and the Commission's Interstate Fishery Management Program Charter requires conservation programs and management measures to be “. . . designed to prevent overfishing and maintain over time, abundant, self-sustaining stocks of coastal fishery resources.” If the two bodies implement ACLs that are not aligned, overages of the lower ACL may occur. This results in an exceedance of the ACL due to misalignment of the management measures but does not necessarily result in a conservation concern within the fishery. For example, if the Commission sets higher ACLs than the Council does, catch in the black sea bass fishery may exceed the Council's ACL while being under the Commission's ACL. With an abundant stock such as black sea bass that is well above its biomass target, such an exceedance would create socioeconomic concerns rather than conservation or biological concerns. The “state/Federal disconnect” accountability measure exists to prevent such a circumstance and is, therefore, consistent with the purpose of an accountability measure. NMFS has used this provision of the regulations, which applies directly to the situation at hand, appropriately.

Comment 9: One commenter questioned whether NMFS intends to make it possible for the Commission to be the sole authority for setting specifications for the demersal fisheries.

Response: NMFS has not ceded authority to the Commission but has used its authority under section 305(d) of the Magnuson-Stevens Act to set catch limits consistent with the Commission's limits, per the regulations at § 648.143(e), as described in response to Comment 8.

Supplemental Information Report

Comment 10: One commenter requested clarification as to why the projection table in the SIR differed from that included in the July 16, 2024, memorandum from Council staff to the Executive Director.

Response: The “2024 Assessment Projections” in table 5 of the SIR are taken from table 3 of the 2024 Black Sea Bass Management Track Assessment, which uses the ABC as the assumed catch for fishing year 2024 and the catch that would occur under FMSYproxy (equal to the OFL) as the assumed catch for 2025 and 2026. The “2024 Status Quo Catch Projections” in table 5 of the SIR and the projections provided in table 7 of the July 16, 2024, memorandum use the ABC as the assumed catch for all years. The “2024 Status Quo Catch Projections” in the SIR uses the 2024 ABC for all 3 years. The July 16, 2024, memorandum uses the Council's recommended ABCs for each year. The final SIR includes this clarification.

Comment 11: One commenter asked why NMFS provided the SIR as a draft.

Response: Draft NEPA documents are available at the proposed rule stage to allow for public comment on both the proposed rule and the NEPA document. Comments on the NEPA document may further inform the analysis and/or result in other clarifications within the document. The final version becomes available when the final rule is published.

Other

Comment 12: One commenter requested additional information on the Center's analysis that the status quo projections show a 5-percent difference in SSB. The commenter stated that the Federal Register notice for the proposed rule lacked sufficient detail to support this claim.

Response: The “2024 Status Quo Catch Projection” provided in table 5 of the SIR uses the same methodology as described in the 2024 Management Track Assessment, but with the 2025 and 2026 assumed catch equal to the assumed catch for 2024 (see Comment 4). The projected 2025 SSB from the “2024 Status Quo Catch Projection” (16,680 mt) is 5-percent lower than the projected 2025 SSB from the “2024 Assessment Projection” (17,442 mt) as shown in table 5 of the SIR.

Comment 13: One commenter asked whether the agency took action to make its concerns regarding the potential OFL and ABC reductions known.

Response: Members of the Advisory Panel, Monitoring and Technical Committees, Council, and Commission, which include NMFS staff, raised concerns about the projected 2025 OFL and ABC during public meetings. Members of the Monitoring Committee expressed concern about the proposed reductions, given the increasing trend in biomass, recent high recruitment, and recent fishing mortality levels below the target. Overall, the Monitoring and Technical Committees were concerned that the stock assessment projections underestimate future biomass and that the 2025 black sea bass ABC is too low (see also Comment 1). Additional detail on these comments can be found in the August 2024 Council meeting report (https://www.mafmc.org/s/2024-08_MAFMC-Report.pdf), the August 2024 Monitoring Committee meeting summary (https://www.mafmc.org/s/SFSBSB-MC-1Aug2024-summary.pdf), and the August 2024 Advisory Panel meeting summary (https://www.mafmc.org/s/SFSBSB-AP-5Aug2024-summary-v2.pdf).

Comment 14: One commenter asked whether the Agency would take action to stop reductions in the future if catch reductions are required.

Response: This action sets catch limits for 1 year and is responsive to the current circumstances in which (1) projections indicate status quo catch in 2025 is expected to maintain the black sea bass stock well above the biomass target, (2) the 2025 catch limits are not expected to result in overfishing, and (3) implementation of Federal catch limits that differ from those set by the Commission would negatively impact Federal permit holders. An updated black sea bass management track assessment will be available in 2025 and will be used to set future specifications. Comments on catch limits beyond 2025 and any related management measures, which will be determined based on the circumstances and record of those actions, are outside of the scope of this action and not addressed further.

Comment 15: One commenter requested additional information regarding the negative impacts to Federal permit holders referred to in the Federal Register notice for the proposed rule (89 FR 83440, October 16, 2024). The commenter asked whether NMFS decided these potential impacts are “so serious that it is worth risking the status of the Black Sea Bass stocks” and requested additional analysis.

Response: As described above, particularly in response to Comment 1, the 2025 black sea bass catch limits are projected to maintain the black sea bass stock well above BMSY, are not expected to result in overfishing, and do not risk the status of the black sea bass stock.

However, implementing catch limits for Federal permit holders that are lower than those implemented by the Commission would be expected to have negative socio-economic effects. The Commission allocates the commercial quota into state-by-state quotas that control landings in each state. Under the Council-recommended quota, NMFS could be required to close the Federal commercial coastwide black sea bass fishery while several states have state-level quota remaining (because the sum of the Commission's state quotas would exceed the Council's recommended coastwide quota). Early closure of the Federal fishery could impinge on Federal permit holders' ability to fully participate in the commercial fishery; create a race to fish if permit holders preemptively fish to avoid an early closure; create distributional effects regionally, depending on when and where the black sea bass are initially available; and create potential long-term negative impacts if paybacks are required for any quota overages. In addition, some states further allocate their state quota into individual transferable quotas (ITQ) that are assigned to individual permit holders. ITQ holders may not be able to harvest quota that they have purchased or leased if the Federal fishery closes, potentially resulting in economic harm.

In addition to the issues the commercial industry would potentially encounter, the recreational harvest limits would also differ between the Federal fishery and the states, which would complicate the process for setting recreational measures and make it nearly impossible for us to approve conservation equivalency under the FMP, as is the normal approach. Abandoning conservation equivalency could result in more restrictive recreational management measures in Federal waters than those that the states would implement in state waters, which, in addition to creating confusion among participants, would disadvantage federally permitted for-hire vessels. As with the commercial fishery, differing recreational catch limits could have long-term impacts if estimates of overall harvest (which include state waters) exceed the Council's recommended recreational harvest limit.

Comment 16: Six commenters supported the proposed specifications. Two of these commenters noted the socio-economic importance of the summer flounder, scup, black sea bass, and bluefish fisheries and their contribution to increasing the diversity of recreational fishing participants by providing an entrypoint into recreational fishing. In addition to expressly supporting the proposed specifications, three commenters also noted that the specifications are not reflective of the abundance seen on the water. Two of these commenters indicated they would also support higher quotas. Other commenters noted an appreciation for the stability the specifications provided and that there would not be value in shifting mortality to discards.

Response: NMFS notes the commenters' support and is implementing the catch limits as proposed.

Comment 17: One commenter discussed the approach to setting recreational management measures and requested additional information on the recreational target.

Response: This action sets catch limits, including RHLs, for summer flounder, scup, black sea bass, and bluefish for the 2025 fishing year. Recreational measures for black sea bass will be developed through a separate action. Comments on the recreational management measure-setting approach, which was implemented through a previous rule (88 FR 14499, March 9, 2023), are outside the scope of this action, but more information can be found in the NEPA document prepared for that action (https://www.mafmc.org/s/SFSBSB_BF_HCR_EA_submission2.pdf).

Comment 18: One commenter asked whether NMFS is ceding its authority to the Commission based on the disapproval of specific measures in Amendment 23 to the Summer Flounder, Scup, and Black Sea Bass FMP.

Response: This action sets catch limits for summer flounder, scup, black sea bass, and bluefish for the 2025 fishing year. Comments on the measures in Amendment 23, which was addressed through a previous rule (89 FR 79778, October 1, 2024), are outside the scope of this action.

Comment 19: One commenter who supported the proposed specifications noted a disconnect between bluefish rebuilding and fishing mortality and hoped to see future specifications set with the understanding that they have little impact on the stock status or achieving the rebuilding target.

Response: The bluefish rebuilding plan was implemented under Amendment 7 to the Bluefish FMP (86 FR 66977, November 24, 2021). Amendment 7 implemented a 7-year constant fishing mortality to rebuild the bluefish stock by 2028. The 7-year rebuilding period was selected over both 4-year and 5-year rebuilding alternatives, allowing for a higher ABC. This action sets bluefish specifications for fishing year 2025 in accordance with the rebuilding plan and the recommendation of the Council. Comments on the rebuilding plan, which is not proposed to be modified here, and future bluefish specifications are outside the scope of this action.

Comment 20: One commenter expressed that offshore wind energy development poses a risk to North Atlantic right whales.

Response: This action sets catch limits for summer flounder, scup, black sea bass, and bluefish for the 2025 fishing year. Comments on wind energy development are outside the scope of this action.

Changes From the Proposed Rule

This final rule includes adjustments to the summer flounder state-by-state commercial quotas to account for prior overages identified in the final catch information for fishing year 2023 and preliminary catch information for fishing year 2024.

Classification

This action is taken pursuant to section 305(d) of the Magnuson-Stevens Act. The NMFS Assistant Administrator has determined that this final rule is consistent with the Summer Flounder, Scup, and Black Sea Bass FMP, the Bluefish FMP, other provisions of the Magnuson-Stevens Act, and other applicable law.

The Assistant Administrator for Fisheries finds that the need to implement these measures in a timely manner constitutes good cause, under the authority contained in 5 U.S.C. 553(d)(3), to waive the 30-day delay in effective date of this action. This action implements 2025 specifications for the summer flounder, scup, black sea bass, and bluefish fisheries. These specifications should be effective by the start of the fishing year for all four species on January 1, 2025. It must be published on or before December 31, 2024.

This rule is being issued at the earliest possible date. Preparation of the final rule is dependent on the analysis of commercial summer flounder landings for the prior fishing year (2023) and the current fishing year through October 31, 2024, to determine whether any overages have occurred and adjustments are needed to the final state quotas. This process is codified in the summer flounder regulations and, therefore, cannot be performed earlier. A proposed rule was published on October 16, 2024, with a public comment period through October 31, 2024. This final rule is being published as soon as possible following closure of the comment period. Annual publication of the summer flounder quotas prior to the start of the fishing year, by December 31, is required by Court Order in North Carolina Fisheries Association v. Daley.

NMFS has determined that this action would not have a substantial direct effect on one or more Indian Tribes, on the relationship between the Federal Government and Indian Tribes, or on the distribution of power and responsibilities between the Federal Government and Indian Tribes; therefore, consultation with Tribal officials under Executive Order (E.O.) 13175 is not required, and the requirements of sections (5)(b) and (5)(c) of E.O. 13175 also do not apply. A Tribal summary impact statement under section (5)(b)(2)(B) and section (5)(c)(2)(B) of E.O. 13175 is not required and has not been prepared.

The Chief Counsel for Regulation of the Department of Commerce certified to the Chief Counsel for Advocacy of the Small Business Administration during the proposed rule stage that this action would not have a significant economic impact on a substantial number of small entities. The factual basis for the certification was published in the proposed rule and is not repeated here. No comments were received regarding this certification. As a result, a regulatory flexibility analysis was not required and none was prepared.

This final rule is exempt from the procedures of E.O. 12866 because this action contains no implementing regulations.

This final rule contains no information collection requirements under the Paperwork Reduction Act of 1995.

List of Subjects in 50 CFR Part 648

Fisheries, Fishing, Reporting and recordkeeping requirements.

Dated: December 4, 2024.
Samuel D. Rauch III,
Deputy Assistant Administrator for Regulatory Programs, National Marine Fisheries Service.

[FR Doc. 2024-28845 Filed 12-9-24; 8:45 am]

BILLING CODE 3510-22-P